DEPARTMENT OF COMMERCE

National Oceanic and Atmospheric Administration

RIN 0648-XY33

New England Fishery Management Council; Public Hearing

AGENCY: National Marine Fisheries Service (NMFS), National Oceanic and Atmospheric Administration (NOAA), Commerce

ACTION: Public hearing; request for comments.

SUMMARY: The New England Fishery Management Council (Council) will hold a public hearing to solicit comments on proposals to be included in the Draft Amendment 3 to the Deep Sea Red Crab Fishery Management Plan (FMP).

DATES: The public hearing will be held on Thursday, September 9, 2010, at 5 p.m. Written comments should be sent on or before September 23, 2010, by 5 p.m. EDT to Patricia Kurkul, Regional Administrator, National Marine Fisheries Service, 55 Great Republic Drive, Gloucester, MA 01930.

ADDRESSES: The meeting will be held at the Holiday Inn, 31 Hampshire Street, Mansfield, MA 02048; Telephone: (508) 339-2200; Fax: (508) 339-1040.

Comments may also be sent via fax to (978) 281-9135 or submitted via e-mail to rc_amendment3@noaa.gov with “Comments on Red Crab Draft Amendment 3” in the subject line. Requests for copies of the public hearing document and other information should be directed to Paul J. Howard, Executive Director, New England Fishery Management Council, 50 Water Street, Mill 2, Newburyport, MA 01950; telephone: (978) 465-0492. The public hearing document is also accessible electronically via the Internet at http://www.nefmc.org.

FOR FURTHER INFORMATION CONTACT: Paul J. Howard, Executive Director, New England Fishery Management Council; telephone: (978) 465-0492.

SUPPLEMENTARY INFORMATION: The Council proposes to take action to amend the Deep Sea Red Crab Fishery Management Plan (FMP) and to address the new and revised requirements of the Magnuson-Stevens Fishery Conservation and Management Act (MSA). The Council will consider comments from fishermen, interested parties and the general public on the proposals and alternatives described in the public hearing document for Draft Amendment 3 to the Red Crab FMP. Once it has considered public comments, the Council will approve final management measures and prepare a submission package for NMFS. There will be an additional opportunity for written public comments on the Proposed Rule when it is published in the Federal Register.

Major elements of the alternatives in the Draft Amendment 3, including a Draft Supplemental Environmental Impact Statement, include: (1) implementation and specification of annual catch limits (ACLs) and accountability measures (AMs) to comply with a new mandate of the reauthorized MSA; (2) establish specifications for fishing years 2011-13; (3) consider changes to the management system that respond to industry suggestions for increasing efficiency in the fishery; (4) replace the Target Total Allowable Catch (TAC) and days-at-sea management system with a hard TAC; (5) eliminate trip limits; and (6) replace the blanket prohibition on landing more than one tote of females per trip with a procedure that would allow the harvest of female crab contingent upon Scientific and Statistical Committee (SSC) and Council approval of specifications that include female allowable biological catch (ABC) and ACL.

Special Accommodations

This hearing is physically accessible to people with physical disabilities. Requests for sign language interpretation or other auxiliary aids should be directed to Paul J. Howard (see ADDRESSES) at least five days prior to the meeting date.

Authority: 16 U.S.C. 1801 et seq.

Dated: August 18, 2010.
William D. Chappell,
Acting Director, Office of Sustainable Fisheries, National Marine Fisheries Service.

[FR Doc. 2010-20804 Filed 8-20-10; 8:45 am]

BILLING CODE 3510-22-S